DEPARTMENT OF DEFENSE

Department of the Air Force

Federal Property Suitable for Exchange

AGENCY: Department of the Air Force, Air Force Real Property Agency.

ACTION: Notice of intent.

Authority: Title 10, United States Code, Section 2869(d)(1).

SUMMARY: This notice identifies unutilized, underutilized, excess, and surplus Federal property under the administrative jurisdiction of the United States Air Force that the Air Force intends to exchange for property beneficial to the Air Force.

FOR FURTHER INFORMATION CONTACT: Ms. Lee Conesa, Air Force Real Property Agency (AFRPA), 143 Billy Mitchell Blvd, Suite 1, San Antonio, TX 78226-1816; telephone (210) 925-1131, (this telephone number is not toll-free).

SUPPLEMENTARY INFORMATION: In accordance with 10 U.S.C. Section 2869 (d)(2), the Air Force is publishing this Notice to identify Federal real property that the Air Force has reviewed for suitability to dispose of in exchange for property beneficial to the Air Force. The property was screened within the Department of Defense (DoD) and no DoD agencies have expressed an interest in the property.

The Air Force reviewed the property:

Norwalk Defense Fuel Support Point, Norwalk, CA

Property Number:

Status: Excess

Comments: Approximately 50 acres of real property located at 15306 Norwalk Blvd, Norwalk, CA 90650.

And will exchange this property for:

Military construction projects to be constructed at March Air Reserve Base, Riverside, CA

Dated: December 3, 2007.
Bao-Anh Trinh,
Air Force Federal Register Liaison Officer.

[FR Doc. E7-24012 Filed 12-10-07; 8:45 am]

BILLING CODE 5001-05-P